DEPARTMENT OF COMMERCE

International Trade Administration

Utah State University, et al.; Notice of Consolidated Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Ave. NW., Washington, DC

Comments: None received. Decision: Approved. We know of no instruments of equivalent scientific value to the foreign instruments described below, for such purposes as each is intended to be used, that was being manufactured in the United States at the time of its order.

Docket Number: 14-021. Applicant: Utah State University, Logan, Utah 84322-2400. Instrument: Respirometer for measuring the oxygen consumption of aquatic animals.

Manufacturer: Loligo Systems, Denmark. Intended Use: See notice at 79 FR 60137, October 6, 2014. Comments: None received. Decision: Approved. We know of no instruments of equivalent scientific value to the foreign instruments described below, for such purposes as this is intended to be used, that was being manufactured in the United States at the time of order. Reasons: The instrument will be used to better understand how the ability of aquatic organisms to obtain oxygen under different environmental conditions affects their growth, survivorship, distribution, and abundance. The phenomenon being studied is the rate of oxygen consumption by aquatic invertebrates, using the instrument under different temperatures and pollution concentrations. Continuous measurement of metabolic (oxygen consumption) response to stress by small aquatic organisms (<10mm in length) requires a flow-through system with oxygen probes and equipment that can both be programmed to precisely increase the temperature of a water bath and automatically detect ug level changes in oxygen concentrations, without which the research could not be conducted.

Docket Number: 14-023. Applicant: Louisiana State University, Baton Rouge, LA 70803. Instrument: Scanning Probe Microscope (SPM)—scanning tunneling microscopy.

Manufacturer: SPECS Surface Nano Analysis, Germany. Intended Use: See notice at 79 FR 60137, October 6, 2014. Comments: None received. Decision: Approved. We know of no instruments of equivalent scientific value to the foreign instruments described below, for such purposes as this is intended to be used, that was being manufactured in the United States at the time of order. Reasons: The instrument will be used to elucidate catalytic properties of metal and metal-oxide systems, uncovering new schemes by which organic molecules become environmentally hazardous upon chemisorption. Scanning tunneling microscopy (STM) will be used to probe the nanoscale atomic structure, growth, and atomic/molecular dynamics of a variety of systems, including metal nanoclusters on oxides and grasphene, metal oxide surfaces and metal surfaces. All experiments will be conducted in ultra-high vacuum conditions, including in addition the STM, other surface sciences probes such as electron-energy loss spectroscopy, x-ray and UV photoemission spectroscopy. The electronics and STM head must provide 60 frames per second scan rate with pixel density of 128×128, the STM head must be mounted on an 8 inch flange with a vertical face, the instrument must have the ability to sputter clean the tip without removing it from the STM scan head, the tunneling bias voltage must be applied to the sample, and the preamp must collect current from the tip.

Dated: November 17, 2014.
Gregory W. Campbell,
Director, Subsidies Enforcement Office, Enforcement and Compliance.

[FR Doc. 2014-28056 Filed 11-25-14; 8:45 am]

BILLING CODE 3510-DS-P